NUCLEAR REGULATORY COMMISSION

[Docket No. 40-8903-LA; ASLBP No. 23-980-03-LA-BD01]

Homestake Mining Company of California; Establishment of Atomic Safety and Licensing Board

Pursuant to the Commission's regulations, see, e.g., 10 CFR 2.103, 2.104, 2.105, 2.300, 2.309, 2.313, 2.318, 2.321, notice is hereby given that an Atomic Safety and Licensing Board (Board) is being established to preside over the following proceeding:

Homestake Mining Company of California (Denial of License Amendment Request)

This Board is being established pursuant to a September 5, 2023 hearing demand filed by Homestake Mining Company of California (Homestake). Homestake challenges the NRC Staff's decision in an August 15, 2023 letter denying Homestake's request to amend its license for the Grants Reclamation Project (License No. SUA-1471) in Cibola County, New Mexico.

The Board is comprised of the following Administrative Judges:

Michael M. Gibson, Chair, Atomic Safety and Licensing Board Panel, U.S. Nuclear Regulatory Commission, Washington, DC 20555-0001

G. Paul Bollwerk, III, Atomic Safety and Licensing Board Panel, U.S. Nuclear Regulatory Commission, Washington, DC 20555-0001

Dr. Sue H. Abreu, Atomic Safety and Licensing Board Panel, U.S. Nuclear Regulatory Commission, Washington, DC 20555-0001

All correspondence, documents, and other materials shall be filed in accordance with the NRC E-Filing rule. See 10 CFR 2.302.

Rockville, Maryland.

Dated: September 7, 2023.
Edward R. Hawkens,
Chief Administrative Judge, Atomic Safety and Licensing Board Panel.

[FR Doc. 2023-19787 Filed 9-12-23; 8:45 am]

BILLING CODE 7590-01-P